DEPARTMENT OF THE INTERIOR

National Park Service

30-Day Federal Register Notice of Intention To Request Clearance of Collection of Information; Opportunity for Public Comment

AGENCY: National Park Service, Interior.

ACTION: Notice and request for comments.

SUMMARY: Under the provisions of the Paperwork Reduction Act of 1995 (Pub. L. 104-13, 44 U.S.C. 3507) and 5 CFR part 1320, Reporting and Recordkeeping Requirements, the National Park Service (NPS) invites comments on an extension of a currently approved information collection clearance Office of Management and Budget (OMB) #1024-0232. An agency may not conduct or sponsor, and a person is not required to respond to, a collection of information unless it displays a currently valid OMB control number. The NPS published a 60-day notice to solicit public comments on this ICR in the Federal Register on Wednesday, November 4, 2009 (74 FR 57188). The comment period closed on January 4, 2010. No comments were received on this notice.

DATES: Public comments on the Information Collection Request (ICR) will be accepted on or before March 25, 2010.

ADDRESSES: You may submit comments directly to the Desk Officer for the Department of the Interior (OMB #0124-0232), Office of Information and Regulatory Affairs, Office of Management and Budget (OMB), by fax at 202/395-5806, or by electronic mail at oira_docket@omb.eop.gov. Please also mail or hand carry a copy of your comments to Diane Miller, National Manager, National Underground Railroad Network to Freedom Program, National Park Service, Midwest Regional Office, 601 Riverfront Drive, Omaha, Nebraska 68102 or via fax at 402/661-1982.

FOR FURTHER INFORMATION CONTACT: Diane Miller, Midwest Regional Office, National Park Service, 601 Riverfront Drive, Omaha, Nebraska 68102 or via fax at 402/661-1982. You are entitled to a copy of the entire ICR package free-of-charge. You may access this ICR at http://www.reginfo.gov/public/.

SUPPLEMENTARY INFORMATION:

OMB Control Number: 1024-0232.

Title: NPS National Underground Railroad Network to Freedom Application.

Form: National Underground Railroad Network to Freedom Application.

Expiration Date: 2/28/2010.

Type of request: Extension of a currently approved information collection.

Description of need: The NPS has identified guidelines and criteria for associated elements to qualify for the Network. The application form documents sites, programs, and facilities and demonstrates that they meet the criteria established for inclusion. The documentation will be incorporated into a database that will be available to the general public for information purposes. The proposed information to be collected regarding these sites, facilities, and programs is not available from existing records, sources, or observations. (National Underground Railroad Network to Freedom Act of 1998).

Affected public: The affected public are State, tribal, and local governments, non-profit organizations, and individuals throughout the United States. Nominations to the Network are voluntary.

Obligation to Respond: Required to obtain a benefit.

Frequency of response: On occasion.

Estimated total annual responses: 60.

Estimated average completion time per response: 25.

Estimated annual reporting burden: 1500 hours.

Estimated annual nonhour cost burden: None.

Comments are invited on: (1) The practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public view, we cannot guarantee that OMB will be able to do so.

Dated: February 18, 2010.
Cartina Miller,
NPS Information Collection Clearance Officer.

[FR Doc. 2010-3556 Filed 2-22-10; 8:45 am]

BILLING CODE 4312-53-P